DEPARTMENT OF TRANSPORTATION

Office of the Secretary

[Docket OST-2006-25612]

Notice of Request for Comments; Request by Hawaiian Airlines for Declaratory Order Concerning Hawaiian's American Samoa Service

AGENCY: Office of the Secretary, Department of Transportation.

SUMMARY: The Department is inviting all interested persons to comment on a petition submitted by Hawaiian Airlines for a declaratory order regarding an Executive Order issued by the Honorable Togiola T.A. Tulafono, the Governor of American Samoa, that proposes to bar Hawaiian from continuing to serve American Samoa if the Governor finds another airline that will provide service between Honolulu and Pago Pago.

DATES: Comments must be submitted on or before September 15, 2006. Replies must be filed by September 22, 2006.

ADDRESSES: Objections and answers to objections must be filed in Docket number OST-2006-25612 by one of the following means:

(1) By mail to the Docket Management Facility, U.S. Department of Transportation, room PL-401, 400 Seventh Street, SW., Washington, DC 20590-0001.

(2) By hand delivery to room PL-401 on the Plaza level of the Nassif Building, 400 Seventh Street, SW., Washington, DC, between 9 a.m. and 5 p.m., Monday through Friday, except Federal holidays. The telephone number is 202-366-9329.

(3) Electronically through the Web site for the Docket Management System at http://dms.dot.gov. Comments must be filed in Docket OST-2006-25612.

FOR FURTHER INFORMATION CONTACT: Thomas Ray, Office of the General Counsel (C-30, Room 4102), U.S. Department of Transportation, 400 Seventh St. SW., Washington, DC 20590, (202) 366-4731, or Nancy Kessler, Office of the General Counsel (C-10, Room 10102), U.S. Department of Transportation, 400 Seventh St., SW., Washington, DC 20590, (202) 366-9301.

SUPPLEMENTARY INFORMATION: Hawaiian Airlines, which has been flying between Honolulu and Pago Pago since 1984, is the only airline currently providing scheduled passenger service between American Samoa and another U.S. state or territory. Governor Tulafono has expressed his dissatisfaction with the quality and price of Hawaiian's service. On July 26, 2006, he issued an executive order stating that American Samoa intends to find another airline to replace Hawaiian's service and that he will issue a second executive order barring Hawaiian from continuing to operate to American Samoa when a replacement airline is ready to begin flying between Honolulu and Pago Pago.

On August 10, 2006, Hawaiian filed a petition for a declaratory order in Docket OST-2006-25612 that contends that the Governor may not lawfully block Hawaiian from serving the Honolulu-Pago Pago market. Hawaiian argues in particular that a Federal statute, 49 U.S.C. 41713, bars American Samoa and all other states and territories from regulating the routes, rates, and services of interstate airlines and that American Samoa therefore may not stop Hawaiian from serving Pago Pago. Hawaiian, noting that the Governor has stated that his proposed action is within American Samoa's customs and border control authority, contends that that authority would not support the Governor's plans. Hawaiian's petition includes as attachments the Governor's July 26, 2006 order and the Governor's response to a letter from the Manager of the Federal Aviation Administration's Airports District Office, Western-Pacific Region, that had suggested that the Governor's proposed action appeared to be unlawful.

No one has answered Hawaiian's petition. We do not wish to rule on the petition for a declaratory order without obtaining the views of American Samoa. Hawaiian itself states that it “requests that the government of American Samoa be given the opportunity to participate in this matter.” We therefore invite American Samoa and all other interested persons to submit comments on the Hawaiian petition for a declaratory order. Comments should address the issues raised in Hawaiian's petition and the Governor's response to the FAA official's letter as well as any other relevant matters of concern to the commenter. We are placing a copy of the FAA official's letter in the docket. Hawaiian's petition and the letter are accessible on-line at the Web site for the Department's Docket Management System at http://dms.dot.gov.

To ensure that American Samoa and other interested persons have an adequate opportunity to prepare and submit comments, we will allow them to file their comments by September 15, 2006. Interested persons, including Hawaiian, may then file replies to the comments by September 22, 2006.

Dated: August 28, 2006.
Michael W. Reynolds,
Acting Assistant Secretary for Aviation and International Affairs.

[FR Doc. E6-14565 Filed 8-31-06; 8:45 am]

BILLING CODE 4910-9X-P